GENERAL SERVICES ADMINISTRATION

[Notice-MG-2020-04; Docket No. 2020-0002; Sequence No. 24]

Office of Federal High-Performance Buildings; Green Building Advisory Committee; Updated Notification Extending Conference Calls

AGENCY: Office of Government-Wide Policy, General Services Administration (GSA).

ACTION: Updated notice extending biweekly conference calls.

SUMMARY: The General Services Administration (GSA) Office of Federal High-Performance Buildings within the Office of Government-wide Policy is announcing an amendment to notice Notice-MG-2020-02, dated January 15, 2020. The recurring, biweekly conference calls of the Green Building Advisory Committee's Embodied Energy Task Group will now be extended to last through November 18, 2020.

DATES: The recurring, biweekly conference calls of the Green Building Advisory Committee's Embodied Energy Task Group will continue on Wednesdays from 1:00 p.m. to 2:00 p.m., ET through November 18, 2020.

FOR FURTHER INFORMATION CONTACT: Mr. Michael Bloom, Office of Federal High-Performance Buildings, Office of Government-wide Policy, General Services Administration, 1800 F Street NW, (Mail-code: MG), Washington, DC 20405, at 312-805-6799 or at michael.bloom@gsa.gov. Additional information about the Committee is available on-line at http://www.gsa.gov/gbac.

SUPPLEMENTARY INFORMATION: Notice-MG-2020-02, published at 85 FR 2425 (January 15, 2020).

Procedures for Attendance

Contact Mr. Michael Bloom at michael.bloom@gsa.gov to register to attend the remaining conference calls. To attend, submit your full name, organization, email address, and phone number. Requests to attend must be received by 5:00 p.m., ET, on August 3, 2020.

Authority: Section 494 of the Energy Independence and Security Act of 2007 (EISA, 42 U.S.C. 17123).

Kevin Kampschroer,
Federal Director, Office of Federal High-Performance Buildings, General Services Administration.

[FR Doc. 2020-16067 Filed 7-23-20; 8:45 am]

BILLING CODE 6820-14-P